FEDERAL COMMUNICATIONS COMMISSION

47 CFR Parts 0, 1, 76, and 78

[CS Docket No. 00-78, FCC 03-55]

Implementation of Electronic Filing for the Multichannel Video and Cable Television Service and the Cable Television Relay Service

AGENCY: Federal Communications Commission.

ACTION: Final rule.

SUMMARY: This document revises rules to allow for electronic filing of forms by Multichannel Video Programming Distributors (“MVPDs”) via the Cable Operations And Licensing System (“COALS”). When COALS, currently being completed, is fully implemented MVPDs will be able to file over the Internet cable community registrations, aeronautical frequency notifications, operational change information, cable television system reports, annual signal leakage reports, and Cable Television Relay Service (CARS) applications. Electronic filing of each type of data will become mandatory 6 months after the Commission has determined that the form for collecting it has been reliably automated. This action includes providing forms for information previously submitted by letter and simplifying the CARS license application.

DATES: These rules contain information collection requirements that have not been approved by OMB. The Federal Communications Commission will publish a document in the Federal Register announcing the effective date of these rules. Public and agency comments are due July 18, 2003.

FOR FURTHER INFORMATION CONTACT: Wayne T. McKee, 202-418-2355, or Michael Lance, 202-418-7014. For additional information concerning the information collection(s) contained in this document, contact Judith B. Herman at 202-418-0214, or via the Internet at jboley@fcc.gov.

SUPPLEMENTARY INFORMATION: This is a summary of the Commission's Report and Order (R&O) in CS Docket No. 00-78; FCC 03-55, adopted March 13, 2003, and released March 19, 2003. The complete text of this R&O is available for inspection and copying during normal business hours in the FCC Reference Information Center, Courtyard Level, 445 12th Street, SW., Washington, DC, and also may be purchased from the Commission's copy contractor, Qualex International, Portals II, 445 12th Street, SW., Room CY-B402, Washington, DC 20554, telephone 202-863-2893, facsimile 202-863-2898, or via e-mail at qualexint@aol.com. Alternative formats (computer diskette, large print, audio cassettes, and Braille) are available to persons with disabilities by contacting Brian Millin at 202-418-7426, TTY 202-418-7365, or at bmillin@fcc.gov. In addition to filing comments with the Office of the Secretary, a copy of any comments on the information collection(s) contained herein should be submitted to Judith B. Herman, Federal Communications Commission, Room 1-C804, 445 12th Street, SW., Washington, DC 20554, or via the Internet to jboley@fcc.gov.

The Notice of Proposed Rule Making (NPRM) in this proceeding may be found at 65 FR 48211, August 7, 2000.

Synopsis of the Report and Order

This Report and Order revises our rules governing the filing of the majority of forms filed by the public for the Multichannel Video and Cable Television Service (“MVCTS”) and applications in the Cable Television Relay Service (“CARS”). In addition to the CARS microwave applications, these forms include cable television operator registrations, change of operational information, cable television system reports, aeronautical frequency usage filings, and annual signal leakage reports. These rule changes facilitate our implementation of the Cable Operations and Licensing System (“COALS”) and will allow for a new electronic filing system. This action will reduce the effort for Multichannel Video Programming Distributors (“MVPDs”) to file applications, reports, and other documents. It will also enhance the availability to the industry and the public of cable system and multichannel video programming systems information. This action is also another step for the Commission in complying with Government Paperwork Elimination Act.

Use of COALS will become mandatory in phases as the Commission verifies its reliability for filing each form. Thus, electronic filing of each form will be made mandatory six months after the Commission announces that the software for filing that form is available. The Commission will publish by Public Notice the date on which mandatory filing will begin. In cases where filers can show that electronic filing will work a hardship on them, the Commission will consider waivers of the mandatory filing requirement.

This Report and Order also makes modifications to procedural rules for filings by MVPDs. It redefines major and minor modifications of CARS stations and license applications. It also requires that geographic coordinates be given using the 1983 North American Datum (NAD83).

This Report and Order contains new or modified information collection(s) subject to the Paperwork Reduction Act of 1995 (PRA), Pub. L. 104-13. It will be submitted to the Office of Management and Budget (OMB) for review under section 3507(d) of the PRA. OMB, the general public, and other Federal agencies are invited to comment on the new or modified information collection(s) contained in this proceeding.

Paperwork Reduction Act

This Report and Order contains a modified information collection. The Commission, as part of its continuing effort to reduce paperwork burdens, invites the general public to comment on the information collection(s) contained in this Report and Order as required by the Paperwork Reduction Act of 1995, Pub. L. 104-13.

Final Regulatory Flexibility Analysis

As required by the Regulatory Flexibility Act of 1980, as amended (“RFA”), an Initial Regulatory Flexibility Analysis (“IRFA”) was incorporated in the Notice of Proposed Rulemaking (“NPRM”) in CS Docket No. 00-78, FCC 00-165. The Commission sought written public comment on the proposals in the Notice, including comment on the IRFA. This present Final Regulatory Flexibility Analysis (“FRFA”) conforms to the RFA.

A. Need for, and Objectives of, This Report and Order

We revise our rules governing the filing of forms and applications for the Multichannel Video and Cable Television Services. These include applications in the Cable Television Relay Service (CARS microwave applications), cable television operator registrations, and aeronautical frequency usage filings. These rule changes are designed to facilitate our implementation of electronic filing via the new Cable Operations And Licensing System (“COALS”). We undertake implementation of the COALS electronic filing system so that cable services applicants and associated parties may file documents with greater speed and efficiency. Because it is available over the Internet and is fully searchable, the system will also make license and cable operational information more accessible to the Commission's staff, the MVPD industry, and the general public. Furthermore, it is expected that the cost of filing applications or obtaining information will be reduced.

B. Summary of Significant Issues Raised by Public Comments in Response to IRFA

No one commented in direct response to the IRFA. We received only one comment in the proceeding—from the National Cable Telecommunications Association (“NCTA”). That comment did address the issue of the burden on small entities that would result if we decide to make electronic filing mandatory. We responded to their concern by creating an indefinite transition period during which electronic filing will be optional. A waiver of the requirement may also be granted.

C. Description and Estimate of the Number of Small Entities to Which the Rules Will Apply

The RFA directs the Commission to provide a description of and, where feasible, an estimate of the number of, small entities that will be affected by the rules adopted herein. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (“SBA”).

A small organization is generally “any not-for-profit enterprise which is independently owned and operated and is not dominant in its field.” Nationwide, as of 1992, there were approximately 275,801 small organizations. “Small government jurisdiction” generally means “governments of cities, counties, towns, townships, villages, school districts, or special districts, with a population of less than 50,000.” As of 1992, there were approximately 85,006 governmental entities in the United States. This number includes 38,978 counties, cities, and towns: of these, 37,566, or 96%, have populations of fewer than 50,000. The Census Bureau estimates that this ratio is approximately accurate for all governmental entities. Thus, of the 85,006 governmental entities, we estimate that 81,600 (96%) are small entities. Below, we further describe and estimate the number of small entity licensees and regulatees that may be affected by these rules. It is possible that various types of small organizations are cable operators or other types of Multichannel Video Programming Distributor.

The rules we adopt will apply to all Multichannel Video Programming Distributors. This includes cable systems, the Multipoint Distribution Service (“MDS”), the Multichannel, Multipoint Distribution Service (“MMDS”), and Private Cable Operators (“PCOs”).

Small MVPDs. SBA has developed a definition of small entities for cable and other pay television services, which includes such companies generating $12.5 million or less in annual receipts. This definition includes cable system operators, closed circuit television services, direct broadcast satellite services, multipoint distribution systems, satellite master antenna systems, open video systems, and subscription television services. According to the Census Bureau, there were 1,423 such cable and other pay television services generating less than $12.5 million in revenue. We address below services individually to provide a more precise estimate of small entities.

The Commission has developed, with SBA's approval, its own definition of a small cable system operator for the purposes of rate regulation. Under the Commission's rules, a “small cable company” is one serving fewer than 400,000 subscribers nationwide. Based on our most recent information, we estimate that there were 1439 cable operators that qualified as small cable companies at the end of 1995. Since then, some of those companies may have grown to serve over 400,000 subscribers, and others may have been involved in transactions that caused them to be combined with other cable operators. The Commission's rules define a “small system,” for the purposes of rate regulation, as a cable system with 15,000 or fewer subscribers. The Commission does not request nor does the Commission collect information concerning cable systems serving 15,000 or fewer subscribers and thus is unable to estimate, at this time, the number of small cable systems nationwide.

The Communications Act also contains a definition of a small cable system operator, which is “a cable operator that, directly of through an affiliate, serves in the aggregate fewer than 1% of all subscribers in the United States and is not affiliated with any entity or entities whose gross annual revenues in the aggregate exceed $250,000,000.” The Commission has determined that there are 61,700,000 subscribers in the United States. Therefore, a cable operator serving fewer than 617,000 subscribers shall be deemed a small operator, if its annual revenues, when combined with the total annual revenues of all of its affiliates, do not exceed $250 million in the aggregate. Based on available data, we find that the number of cable operators serving 617,000 subscribers or less totals approximately 1450. Although it seems certain that some of these cable system operators are affiliated with entities whose gross annual revenues exceed $250,000,000, we are unable at this time to estimate with greater precision the number of cable system operators that would qualify as small cable operators under definition in the Communications Act. It should be further noted that recent industry estimates project that there will be a total of 64,000,000 subscribers and we have based our fee revenue estimates on that figure.

Private Cable Operators/Satellite Master Antenna Systems. Based on our most recent information, we estimate that there are 3400 private cable operators (“PCOs”). Most of these qualify as small cable companies under the SBA and Commission rate regulation definitions. These operators primarily serve multiple dwelling units (“MDU”) and commercial multiple tenant units (“MTU”). The MDU market is comprised of 20 to 25 million units. Commercial multiple tenant units (and there SBA size standards) include hotels ($6.0 million), hospitals ($29.0 million), nursing care facilities ($11.5 million), homes for the elderly ($6.0 million), and similar facilities. PCOs serve 3,000 to 4,000 customers each, but some serve 15,000 to 55,000 subscribers each. Consequently, most PCOs are small entities, and we estimate that there are more than 3,400 small entity private cable system operators that may be affected by the decisions and rules we are adopting.

Open Video System (“OVS”). The Commission has certified 26 OVS operators. As an OVS is comparable in most ways to a cable system, the cable system size standards are appropriate. Of these, one, Affiliates of Residential Communications Network, Inc. (“RCN”), is clearly not a small system. RCN received approval to operate OVS systems in New York City, Boston, Washington, DC, and other areas. RCN has approximately 506,700 video subscribers; is the largest broadband service provider in the country, 1.5 million homes passed; and is the thirteenth largest MVPD. The Commission has not set a separate size standard for an OVS. Under that standard RCN is not a small system operator. Little financial information is available for the other entities authorized to provide OVS service that are not yet operational. Given that other entities have been authorized to provide OVS service but have not yet begun to generate revenues, we conclude that at least some of the OVS operators qualify as small entities under FCC standards.

Multichannel, Multipoint Distribution Service (“MMDS”). The Commission refined the definition of “small entity” for the auction of MMDS as an entity that, together with its affiliates, has annual average gross revenues that are not more than $40 million for the proceeding three calendar years. This definition of a small entity, in the context of the Commission's decision concerning MMDS auctions, has been approved by the SBA.

The Commission completed its MMDS auction in March 1996 for authorization in 493 basic trading areas (“BTAs”). Of the 67 winning bidders, 61 qualified as small entities under the Commission definition. Five winners indicated that they were minority-owned and four winners indicated that they were women-owned businesses. In 1998, the Commission released the Two-Way Order permitting MDS/ITFS licensees to construct digital two-way systems that could provide high-speed, high-capacity broadband service, including two-way Internet service via cellularized communication systems. As a result, although over 2,650 MDS and MMDS licenses have been issued in the U.S., four companies—Sprint, WorldCom, Nucentrix and BellSouth—hold more than half of the licenses. Collectively, these four companies can potentially reach 75% of the U.S. population. The number of MMDS subscribers, however, has declined to approximately 490,000 from 700,000 last year. Presumably, the remaining licenses are held by small businesses under the Commission auction standard for small entities.

D. Description of Projected Reporting, Record Keeping and other Compliance Requirements

This Report and Order creates no additional reporting, record keeping, or other requirements. Rather, makes reporting easier and more efficient by permitting filing by electronic means via the Internet. It also simplifies reporting by standardizing forms and deleting duplicate and unnecessary data collections.

E. Steps Taken To Minimize the Impact on Small Entities, and Significant Alternatives Considered

The RFA requires an agency to describe any significant alternatives that it has considered in developing its approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

The impact of this action on small entities will not only be identical to the impact on large entities, it will be entirely beneficial. It gives them the option of eliminating the cost and expense of filing paper copies of required documents. We did not adopt a requirement for mandatory electronic filing specifically because of concerns for the burden that mandatory filing might impose upon small entities.

Report to Congress. We will send a copy of this Report and Order, including this FRFA, in a report to Congress pursuant to the Congressional Review Act of 1996. A copy of this report and Order and FRFA (or summary thereof) will also be published in the Federal Register, pursuant to 5 U.S.C. 604(b), and will be sent to the Chief Counsel for Advocacy of the Small Business Administration.

Ordering Clauses

Accordingly, pursuant to authority found in sections 4(i)-(j) of the Communications Act of 1934, as amended, 47 U.S.C. 154(i)-(j), 303(c), (f), and (r), and 309(j), the Commission's rules are amended as set forth in this Order.

The action contained herein has been analyzed with respect to the Paperwork Reduction Act of 1995, Public Law 104-13, and found to impose new or modified information collection requirements on the public. Implementation of these new or modified information collection requirements will be subject to approval by the Office of Management and Budget (OMB) as prescribed by the Paperwork Reduction Act. Consequently, the amendments to the Commission's rules set forth in this Order will become effective upon announcement in the Federal Register of OMB approval of the new or modified information collecting requirements and the implementation of the electronic filing system specified therein.

The Commission's Consumer and Governmental Affairs Bureau, Reference Information Center, shall send a copy of this Report and Order, including the Final Regulatory Flexibility Analysis, to the Chief Counsel for Advocacy of the Small Business Administration.

List of Subjects

47 CFR Part 0

Organization and functions (Government agencies), Reporting and recordkeeping requirements.

47 CFR Part 1

Reporting and recordkeeping requirements.

47 CFR Part 76

Cable television, Reporting and recordkeeping requirements.

47 CFR Part 78

Cable television, Communications equipment, Radio, Reporting and recordkeeping requirements.

Federal Communications Commission.
William F. Caton,
Deputy Secretary.

Rule Changes

For the reasons discussed in the preamble, the Federal Communications Commission amends 47 CFR parts 0, 1, 76, and 78 as follows:

PART 0—COMMISSION ORGANIZATION

1. The authority citation for part 0 continues to read as follows:

Authority: Secs. 5, 48 Stat. 1068, as amended; 47 U.S.C. 155, 225, unless otherwise noted.

2. Revise § 0.401(b)(3) to read as follows:

§ 0.401 Location of Commission offices.

* * * * *

(b) * * *

(3) Alternatively, applications and other filings may be sent electronically via the Universal Licensing System (ULS) or the Cable Operations and Licensing System (COALS) as appropriate for use of those systems.

PART 1—PRACTICE AND PROCEDURE

3. The authority citation for part 1 continues to read as follows:

Authority: 47 U.S.C. 151, 154(i), 154(j), 155, 225, 303(r), 309 and 325(e).

4. In the table in § 1.1104, entry 8 is amended by revising the introductory text and by revising entries h. and i. to read as follows:

§ 1.1104 Schedule of charges for applications and other filings for media services.

* * * * *

Action | FCC form No. | Fee amount | Payment type code | Address
8. Multichannel Video and Cable Television Services
* * * * * * *
h. Registration of a Cable Community. | 322 & 159 | 50.00 | TAC | Federal Communications Commission, Media Services, P.O. Box 358205, Pittsburgh, PA 15251-5205.
i. Aeronautical Frequency Notification. | 321 & 159 | 50.00 | TAC | Federal Communications Commission, Media Services, P.O. Box 358205, Pittsburgh, PA 15215-5205.

5. Section 1.1111 is amended by adding paragraph (d) to read as follows:

§ 1.1111 Filing locations.

* * * * *

(d) Fees for applications and other filings pertaining to the Multichannel Video and Cable Television Service (MVCTS) and the Cable Television Relay Service (CARS) that are submitted electronically via the Cable Operations and Licensing System (COALS) may be paid electronically or sent to the Commission's lock box bank manually. When paying manually, applicants must include the FCC Form 159 generated by COALS (pre-filled with the transaction confirmation number) and completed with the necessary additional payment information to allow the Commission to verify that payment was made. Manual payments must be received no later than ten (10) days after receipt of the application or filing in COALS or the application or filing will be dismissed.

6. Add subpart M to read as follows:

Subpart M—Cable Operations and Licensing System (COALS)

Sec.
1.1701 Purpose.
1.1702 Scope.
1.1703 Definitions.
1.1704 Station files.
1.1705 Forms; electronic and manual filing.
1.1706 Content of filings.
1.1707 Acceptance of filings.

§ 1.1701 Purpose.

To provide electronic filing of applications, notifications, registration statements, reports, and related documents in the Multichannel Video and Cable Television Services and the Cable Television Relay Services.

§ 1.1702 Scope.

This subpart applies to filings required by §§ 76.403, 76.1610, 76.1801, 76.1803, & 76.1804, and 78.11 through 78.36 of this chapter.

§ 1.1703 Definitions.

For purposes of this subpart, the following definitions apply:

(a) Application. A request on Form 327 for a station license as defined in Section 3(b) of the Communications Act, completed in accordance with § 78.15 and signed in accordance with § 78.16 of this chapter, or a similar request to amend a pending application or to modify or renew an authorization. The term also encompasses requests to assign rights granted by the authorization or to transfer control of entities holding authorizations.

(b) Authorization. A written instrument issued by the FCC conveying authority to operate, for a specified period, a station in the Cable Television Relay Service. In addition, this term includes authority conveyed by operation of rule upon filing notification of aeronautical frequency usage by MVPDs or registration statements by cable operators.

(c) Cable Operations And Licensing System (COALS). The consolidated database, application filing system, and processing system for Multichannel Video and Cable Television Services (MVCTS) and the Cable Television Relay Service (CARS). COALS supports electronic filing of all applications, notifications, registrations, reports, and related documents by applicants and licensees in the MVCTS and CARS, and provides public access to licensing information.

(d) Cable Television Relay Service (CARS). All services authorized under part 78 of this title.

(e) Filings. Any application, notification, registration statement, or report in plain text or, when as prescribed, on FCC Forms 320, 321, 322, 324, 325, or 327, whether filed in paper form or electronically.

(f) Multichannel Video and Cable Television Services (MVCTS). All services authorized or operated in accordance with part 76 of this title.

(g) Receipt date. The date an electronic or paper application is received at the appropriate location at the Commission or the lock box bank. Major amendments to pending applications as defined in § 78.109 of this chapter, will result in the assignment of a new receipt date.

(h) Signed. For manually filed applications only, an original hand-written signature. For electronically filed applications only, an electronic signature. An electronic signature shall consist of the name of the applicant transmitted electronically via COALS and entered on the filing as a signature.

§ 1.1704 Station files.

Applications, notifications, correspondence, electronic filings and other material, and copies of authorizations, comprising technical, legal, and administrative data relating to each system in the Multichannel Video and Cable Television Services (MVCTS) and the Cable Television Relay Service (CARS) are maintained by the Commission in COALS and the Public Reference Room. These files constitute the official records for these stations and supersede any other records, database or lists from the Commission or other sources.

§ 1.1705 Forms; electronic and manual filing.

(a) Application forms. Operators in the Multichannel Video and Cable Television Services (MVCTS) and applicants and licensees the Cable Television Relay Service (CARS) shall use the following forms and associated schedules:

(1) FCC Form 320, Basic Signal Leakage Performance Report. FCC Form 320 is used by MVPDs to report compliance with the basic signal leakage performance criteria.

(2) FCC Form 321, Aeronautical Frequency Notification. FCC Form 321 is used by MVPDs to notify the Commission prior to operating channels in the aeronautical frequency bands.

(3) FCC Form 322, Cable Community Registration. FCC Form 322 is used by cable system operators to commence operation for each community unit.

(4) FCC Form 324, Operator, Address, and Operational Information Changes. FCC Form 324 is used by cable operators to notify the Commission of changes in administrative data about the operator and operational status changes.

(5) FCC Form 325, Cable Television System Report. FCC Form 325 is used by cable operators to report general information and signal and frequency distribution data.

(6) FCC Form 327, Application for Cable Television Relay Service Station License. FCC Form 327 and associated schedules is used to apply for initial authorizations, modifications to existing authorizations, amendments to pending applications, and renewals of station authorizations. FCC Form 327 is also used to apply for Commission consent to assignments of existing CARS authorizations and to apply for Commission consent to the transfer of control of entities holding CARS authorizations.

(b) Electronic filing. Six months after the Commission announces their availability for electronic filing, all applications and other filings using FCC Forms 320, 321, 322, 324, 325, and 327 and their respective associated schedules must be filed electronically in accordance with the electronic filing instructions provided by COALS.

(1) There will be two ways for parties to electronically file applications with the Commission: batch and interactive.

(i) Batch filing. Batch filing involves data transmission in a single action. Batch filers will follow a set Commission format for entering data. Batch filers will then send, via file transfer protocol, batches of data to the Commission for compiling. COALS will compile such filings overnight and respond the next business day with a return or dismissal of any defective filings. Thus, batch filers will not receive immediate correction from the system as they enter the information.

(ii) Interactive filing. Interactive filing involves data transmission with screen-by-screen prompting from the Commission's COALS system. Interactive filers will receive prompts from the system identifying data entries outside the acceptable ranges of data for the individual fields at the time the data entry is made.

(2) Attachments to applications must be uploaded along with the electronically filed application whenever possible.

(3) Any associated documents submitted with an application must be uploaded as attachments to the application whenever possible. The attachment should be uploaded via COALS in Adobe Acrobat Portable Document Format (PDF) whenever possible.

(c) Manual filing. (1) Forms 320, 321, 322, 324, 325, and 327 may be filed manually.

(2) Manual filings must be submitted to the Commission at the appropriate address with the appropriate filing fee. The addresses for filing and the fee amounts for particular applications are listed in subpart G of this part, and in the appropriate fee filing guide for each service available from the Commission's Forms Distribution Center by calling 1-800-418-FORM (3676). The form may be downloaded from the Commission's Web site: http://www.fcc.gov.

(3) Manual filings requiring fees as set forth at subpart G, of this part must be filed in accordance with § 0.401(b) of this chapter.

(4) Manual filings that do not require fees must be addressed and sent to the Media Bureau, Federal Communications Commission, 445 12th Street, SW., Washington, DC 20554.

(5) FCC forms may be reproduced and the copies used in accordance with the provisions of § 0.409 of this chapter.

(d) Applications requiring prior coordination. Parties filing applications that require frequency coordination shall, prior to filing, complete all applicable frequency coordination requirements in § 78.36 of this chapter.

§ 1.1706 Content of filings.

(a) General. Filings must contain all information requested on the applicable form and any additional information required by the rules in this title and any rules pertaining to the specific service for which the filing is made.

(b) Antenna locations. Applications for CARS stations and aeronautical frequency usage notifications must describe each transmitting antenna site or center of the cable system, respectively, by its geographical coordinates. Geographical coordinates must be specified in degrees, minutes, and seconds to the nearest tenth of a second of latitude and longitude. Submissions must provide such data using the NAD83 datum.

(c) Antenna structure registration. Owners of certain antenna structures must notify the Federal Aviation Administration and register with the Commission as required by Part 17 of this chapter. Applications proposing the use of one or more new or existing antenna structures must contain the FCC Antenna Registration Number(s) of each structure for which registration is required. If registration is not required, the applicant must provide information in its application sufficient for the Commission to verify this fact.

(d) Environmental concerns. Each applicant is required to indicate at the time its application is filed whether a Commission grant of the application may have a significant environmental effect, as defined by § 1.1307. If yes, an Environmental Assessment, required by § 1.1311, must be filed with the application and environmental review by the Commission must be completed prior to construction.

(e) International coordination. Channel assignments and usage under part 78 are subject to the applicable provisions and requirements of treaties and other international agreements between the United States government and the governments of Canada and Mexico.

(f) Taxpayer Identification Number (TINs). All filers are required to provide their Taxpayer Identification Numbers (TINS) (as defined in 26 U.S.C. 6109) to the Commission, pursuant to the Debt Collection Improvement Act of 1996 (DCIA). Under the DCIA, the FCC may use an applicant or licensee's TIN for purposes of collecting and reporting to the Department of the Treasury any delinquent amounts arising out of such person's relationship with the Government.

§ 1.1707 Acceptance of filings.

Regardless of filing method, all submissions with an insufficient fee, grossly deficient or inaccurate information, or those without a valid signature will be dismissed immediately. For any submission that is found subsequently to have minimally deficient or inaccurate information, we will notify the filer of the defect. We will allow 15 days from the date of this notification for correction or amendment of the submission if the amendment is minor. If the applicant files a timely corrected application, it will ordinarily be processed as a minor amendment in accordance with the Commission's rules. Thus it will have no effect on the initial filing date of the application or the applicant's filing priority. If, however, the amendment made by the applicant is not a simple correction, but constitutes a major amendment to the application, it will be governed by the rules and procedures applicable to major amendments, that is, it will be treated as a new application with a new filing date and new fees must be paid by the applicant. Finally, if the applicant fails to submit an amended application within the period specified in the notification, the application will be subject to dismissal for failure to prosecute.

PART 76—MULTICHANNEL VIDEO AND CABLE TELEVISION SERVICE

7. The authority citation for part 76 continues to read as follows:

Authority: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572, 573.

8. Amend § 76.403 by revising the second sentence to read as follows:

§ 76.403 Cable television system reports.

* * * These forms shall be completed and filed with (returned to) the Commission within 60 days after the Commission notifies the operator that the form is due. * * * ,

9. Revise § 76.620 to read as follows:

§ 76.620 Non-cable multichannel video programming distributors (MVPDs).

Sections 76.605(a)(12), 76.610, 76.611, 76.612, 76.614, 76.1803, 76.1804, 76.616, and 76.617 shall apply to all non-cable MVPDs. Exception: Non-cable MVPDs serving less than 1000 subscribers and less than 1000 units do not have to comply with § 76.1804(g).

10. Amend § 76.1610 by revising the introductory text and paragraphs (a), (c), and (d) and adding paragraph (g) to read as follows:

§ 76.1610 Change of operational information.

The Operator shall inform the Commission on FCC Form 324 whenever there is a change of cable television system operator; change of legal name, change of the operator's mailing address or FCC Registration Number (FRN); or change in the operational status of a cable television system. Notification must be done within 30 days from the date the change occurs and must include the following information, as appropriate:

(a) The legal name of the operator and whether the operator is an individual, private association, partnership, corporation, or government entity. See § 76.5(cc). If the operator is a partnership, the legal name of the partner responsible for communications with the Commission shall be supplied;

* * * * *

(c) The physical address, including zip code, and e-mail address, if applicable, to which all communications are to be directed;

(d) The nature of the operational status change (e.g., operation terminated, merged with another system, inactive, deleted, etc.);

* * * * *

(g) The FCC Registration Number (FRN).

11. Revise § 76.1801 to read as follows:

§ 76.1801 Registration statement.

(a) A system community unit shall be authorized to commence operation only after filing with the Commission the following information on FCC Form 322.

(1) The legal name of the operator, entity identification or social security number, and whether the operator is an individual, private association, partnership, or corporation. If the operator is a partnership, the legal name of the partner responsible for communications with the Commission shall be supplied;

(2) The assumed name (if any) used for doing business in the community;

(3) The mailing address, including zip code; e-mail address, if applicable; and telephone number to which communications are to be directed;

(4) The month and year the system began service to subscribers;

(5) The name of the community or area served and the county in which it is located;

(6) The television broadcast signals to be carried which previously have not been certified or registered; and

(7) The FCC Registration Number (FRN).

(b) Registration statements, FCC Form 322, shall be signed by the operator; by one of the partners, if the operator is a partnership; by an officer, if the operator is a corporation; by a member who is an officer, if the operator is an unincorporated association; or by any duly authorized employee of the operator.

(c) Registration statements, FCC Form 322, may be signed by the operator's attorney in case of the operator's physical disability or of his absence from the United States. The attorney shall in that event separately set forth the reasons why the registration statement was not signed by the operator. In addition, if any matter is stated on the basis of the attorney's belief only (rather than the attorney's knowledge), the attorney shall separately set forth the reasons for believing that such statements are true.

12. Section § 76.1803 is revised to read as follows:

§ 76.1803 Signal Leakage Monitoring.

MVPDs subject to § 76.611 must submit the results of ground based measurements derived in accordance with § 76.611(a)(1) or airspace measurements derived in accordance with § 76.611(a)(2), including a description of the method by which compliance with basic signal leakage criteria is achieved and the method of calibrating the measurement equipment. This information shall be provided to the Commission each calendar year via FCC Form 320.

13. Section 76.1804 is revised to read as follows:

§ 76.1804 Aeronautical frequencies: leakage monitoring (CLI).

An MVPD shall notify the Commission before transmitting any carrier or other signal component with an average power level across a 25 kHz bandwidth in any 160 microsecond time period equal to or greater than 10⁻⁴ watts at any point in the cable distribution system on any new frequency or frequencies in the aeronautical radio frequency bands (108-137 and 225-400 MHz). The notification shall be made on FCC Form 321. Such notification shall include:

(a) Legal name and local address of the MVPD;

(b) The names and FCC identifiers (e.g., CA0001) of the system communities affected, for a cable system, and the name and FCC identifier (e.g., CAB901), for other MVPDs;

(c) The names and telephone numbers of local system officials who are responsible for compliance with §§ 76.610 through 76.616 and § 76.1803;

(d) Carrier frequency, tolerance, and type of modulation of all carriers in the aeronautical bands at any location in the cable distribution system and the maximum of those average powers measured over a 2.5 kHz bandwidth as described in the introductory paragraph to this rule section;

(e) The geographical coordinates (in NAD83) of a point near the center of the system, together with the distance (in kilometers) from the designated point to the most remote point of the plant, existing or planned, that defines a circle enclosing the entire plant;

(f) Certification that the monitoring procedure used is in compliance with § 76.614 or description of the routine monitoring procedure to be used; and

(g) For MVPDs subject to § 76.611, the cumulative signal leakage index derived under § 76.611(a)(1) or the results of airspace measurements derived under § 76.611(a)(2), including a description of the method by which compliance with the basic signal leakage criteria is achieved and the method of calibrating the measurement equipment.

(h) Aeronautical Frequency Notifications, FCC Form 321, shall be personally signed either electronically or manually by the operator; by one of the partners, if the operator is a partnership; by an officer, if the operator is a corporation; by a member who is an officer, if the operator is an unincorporated association; or by any duly authorized employee of the operator.

(i) Aeronautical Frequency Notifications, FCC Form 321, may be signed by the operator's attorney in case of the operator's physical disability or of his absence from the United States. The attorney shall in that event separately set forth the reasons why the FCC Form 321 was not signed by the operator. In addition, if any matter is stated on the basis of the attorney's belief only (rather than the attorney's knowledge), the attorney shall separately set forth the reasons for believing that such statements are true.

(j) The FCC Registration Number (FRN).

PART 78—CABLE TELEVISION RELAY SERVICE

14. The authority citation for Part 78 continues to read as follows:

Authority: Secs. 2, 3, 4, 301, 303, 307, 308, 309, 48 Stat., as amended 1064, 1065, 1066, 1081, 1082, 1083, 1084, 1085; 47 U.S.C. 152, 153, 154, 301, 303, 307, 308, 309.

15. Revise § 78.17 to read as follows:

§ 78.17 Amendment of applications.

Any application may be amended as a matter of right prior to the adoption date of any final action taken by the Commission with respect to the application. If a petition to deny has been filed, the amendment shall be served on the petitioner.

16. Amend § 78.20 by revising the first sentence of paragraph (a) to read as follows:

§ 78.20 Acceptance of applications; public notice.

(a) Applications which are tendered for filing are dated upon receipt and then forwarded to the Media Bureau where an examination is made to ascertain whether the applications are complete. * * *

* * * * *

17. In § 78.35 add paragraphs (d) and (e) to read as follows:

§ 78.35 Assignment or transfer of control.

* * * * *

(d) If an assignment or transfer of control involves a substantial change of interest, and requires prior FCC approval, the CARS licensee is required to file FCC Form 327 with the Commission.

(e) Licensees are required to notify the Commission of consummation of an approved transfer or assignment. The assignee or transferee is responsible for providing this notification, including the date the transaction was consummated. The transaction must be consummated and notification provided to the Commission within 60 days of public notice of approval, and notification of consummation must occur no later than 30 days after actual consummation, unless a request for an extension of time to consummate is filed.

18. Revise § 78.109 to read as follows:

§ 78.109 Major and minor modifications to stations.

(a) Amendments to applications and modifications to stations are classified as major or minor. A major modification requires a formal application. A major amendment to an application is treated as a new application.

(b) Major modifications to a station or amendments to an application include, but are not limited to:

(1) Any increase in bandwidth;

(2) Any change in the transmitting antenna system of a station, other than a CARS pickup station, including the direction of the main radiation lobe, directive pattern, antenna gain or transmission line, antenna height or location;

(3) Any change in the type of modulation;

(4) Any change in the location of a station transmitter, other than a CARS pickup station transmitter, except a move within the same building or upon the tower or mast or a change in the area of operation of a CARS pickup station;

(5) Any change in frequency assignment, including polarization;

(6) Any increase in authorized operating power;

(7) Any substantial change in ownership or control;

(8) Any addition or change in frequency, excluding removing a frequency;

(9) Any modification or amendment requiring an environmental assessment (as governed by §§ 1.1301 through 1319 of this chapter, including changes affecting historic preservation under § 1.1307(a)(4) of this chapter and 16 U.S.C. 470 (National Historic Preservation Act));

(10) Any request requiring frequency coordination; or

(11) Any modification or amendment requiring notification to the Federal Aviation Administration as defined in 47 CFR 17, subpart B.

(c) Minor changes may be made at the discretion of the licensee, provided proper notice is given to the Commission within 30 days of implementing the change and provided further, that the changes are appropriately reflected in the next application for renewal of the license for the station.

(d) For applications and modifications, the following changes are considered minor:

(1) Any name change not involving change in ownership or control of the license;

(2) Any change to administrative information, e.g., address, telephone number, or contact person;

(3) Any change in ownership that does not affect the identity or controlling interest of the licensee;

(4) Lowering power;

(5) Removing one or more channels; or

(6) Deleting a path.

[FR Doc. 03-12132 Filed 5-16-03; 8:45 am]

BILLING CODE 6712-01-P